DEPARTMENT OF THE INTERIOR

Bureau of Land Management

[LLMT926000-17X-L71300000-BJ0000-LVTSEX683850; 17XL1109AF; MO#4500103585]

Filing of Plats of Survey; South Dakota

AGENCY: Bureau of Land Management, Interior.

ACTION: Notice of official filing.

SUMMARY: The plats of survey of lands described in this notice are scheduled to be officially filed in the Bureau of Land Management (BLM), Montana State Office, Billings, Montana, 30 calendar days from the date of this publication.

DATES: Protests must be received by the BLM by August 14, 2017.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009, HMontoya@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This survey was executed at the request of the Cheyenne River Sioux Tribe, and was necessary to determine Individual and Tribal Trust lands.

The lands we surveyed are:

Black Hills Meridian, South Dakota

T. 7 N., R. 21 E.

The plat, in two sheets, representing the dependent resurvey of a portion of the subdivisional lines, the original meanders of the former left bank of the Cheyenne River, through section 8, a portion of the subdivision of section 8, and the 1932 meanders of the former left bank of the Cheyenne River, through sections 7 and 8, the further subdivision of section 8, and the survey of the meanders of the present left bank of the Cheyenne River and informative traverse, through a portion of section 7 and section 8, the left and right banks and medial line of an abandoned channel of the Cheyenne River in section 8, the limits of erosion in section 8, a portion of the left bank of a relicted channel of the Cheyenne River in section 7, a former left bank of the Cheyenne River in section 8, and certain division of accretion and partition lines, Township 7 North, Range 21 East, of the Black Hills Meridian, South Dakota, was accepted April 26, 2017.

The BLM will place a copy of the plat, in two sheets, and related field notes described in the open files. They will be available to the public as a matter of information. If the BLM receives a protest against this survey, as shown on this plat, in two sheets, prior to the date of the official filing, the BLM will stay the filing pending its consideration of the protest. The BLM will not officially file this plat, in two sheets, until the day after it has accepted or dismissed all protests and they have become final, including decisions or appeals.

A person or party who wishes to protest a survey must file a notice that they wish to protest with the Chief, Branch of Cadastral Survey, at the address listed in the ADDRESSES section. A statement of reasons for a protest may be filed with the notice of protest and must be filed within 30 calendar days after the protest is filed. If a protest against the survey is received prior to the date of official filing, the filing will be stayed pending consideration of the protest. A plat will not be officially filed until the day after all protests have been dismissed or otherwise resolved.

Before including your address, phone number, email address, or other personal identifying information in your protest, please be aware that your entire protest—including your personal identifying information—may be made publicly available at any time. While you can ask us to withhold your personal identifying information from public review, we cannot guarantee that we will be able to do so.

Authority: 43 U.S.C. Chap. 3.

Joshua F. Alexander,
Chief, Branch of Cadastral Survey, Division of Energy, Minerals and Realty.

[FR Doc. 2017-14757 Filed 7-13-17; 8:45 am]

BILLING CODE 4310-DN-P